ANTITRUST MODERNIZATION COMMISSION

Public Meeting

AGENCY: Antitrust Modernization Commission.

ACTIONS: Notice of public meeting.

SUMMARY: The Antitrust Modernization Commission will hold a public meeting on January 11, 2007. The purpose of the meeting is for the Antitrust Modernization Commission to deliberate on possible recommendations regarding the antitrust laws to Congress and the President.

DATES: January 11, 2007, 9:30 a.m. to approximately 5 p.m. Advanced registration is required.

ADDRESSES: Morgan Lewis, Main Conference Room, 1111 Pennsylvania Avenue, NW., Washington, DC.

FOR FURTHER INFORMATION CONTACT: Andrew J. Heimert, Executive Director & General Counsel, Antitrust Modernization Commission: telephone: (202) 233-0701; e-mail: info@amc.gov. Mr. Heimert is also the Designated Federal Officer (DFO) for the Antitrust Modernization Commission.

For Registration: For building security purposes, advanced registration is required. If you wish to attend the Commission meeting, please provide your name by e-mail to meetings@amc.gov or by calling the Commission offices at (202) 233-0701. Please register by 12 p.m. on January 12, 2007.

SUPPLEMENTARY INFORMATION: The purpose of this meeting is for the Antitrust Modernization Commission to deliberate on its report and/or recommendations to Congress and the President regarding the antitrust laws. The Commission may conduct additional business as necessary. Materials relating to the meeting will be made available on the Commission's Web site (http://www.amc.gov) in advance of the meeting.

The AMC has called this meeting pursuant to its authorizing statute and the Federal Advisory Committee Act. Antitrust Modernization Commission Act of 2002, Pub. L. 107-273, 11054(f), 116 Stat. 1758, 1857; Federal Advisory Committee Act, 5 U.S.C. App., 10(a)(2); 41 CFR 102-3.150 (2005).

Dated: December 11, 2006.
By direction of Deborah A. Garza, Chair of the Antitrust Modernization Commission.
Approved by Designated Federal Officer:
Andrew J. Heimert,
Executive Director & General Counsel, Antitrust Modernization Commission.

[FR Doc. E6-21345 Filed 12-14-06; 8:45 am]

BILLING CODE 6820-YH-P